DEPARTMENT OF THE INTERIOR

Fish and Wildlife Service

[FWS-R8-FHC-2011-N237; FXFR1334088TWG0W4]

Trinity Adaptive Management Working Group

AGENCY: Fish and Wildlife Service, Interior.

ACTION: Notice of meeting.

SUMMARY: The Trinity Adaptive Management Working Group (TAMWG) affords stakeholders the opportunity to give policy, management, and technical input concerning Trinity River (California) restoration efforts to the Trinity Management Council (TMC). The TMC interprets and recommends policy, coordinates and reviews management actions, and provides organizational budget oversight. This notice announces a TAMWG meeting, which is open to the public.

DATES: TAMWG will meet from 9:30 a.m. to 5 p.m. on Friday, December 9, 2011.

ADDRESSES: The meeting will be held at the Trinity County Library, 351 Main Street, Weaverville, CA 96093.

FOR FURTHER INFORMATION CONTACT: Meeting Information: Randy A. Brown, TAMWG Designated Federal Officer, U.S. Fish and Wildlife Service, 1655 Heindon Road, Arcata, CA 95521; telephone: (707) 822-7201. Trinity River Restoration Program (TRRP) Information: Robin Schrock, Executive Director, Trinity River Restoration Program, P.O. Box 1300, 1313 South Main Street, Weaverville, CA 96093; telephone: (530) 623-1800; email: rschrock@usbr.gov.

SUPPLEMENTARY INFORMATION: Under section 10(a)(2) of the Federal Advisory Committee Act (5 U.S.C. App.), this notice announces a meeting of the TAMWG. The meeting will include discussion of the following topics:

• Key questions for Restoration Program guidance and assessment,

• Channel rehabilitation program review and planning,

• Gravel augmentation program,

• Watersheds work program,

• TRRP budget update,

• Hatchery practices review,

• Fish marking,

• Executive Director's report,

• Trinity Management Council Chair's report, and

• Designated Federal Officer topics.

Completion of the agenda is dependent on the amount of time each item takes. The meeting could end early if the agenda has been completed.

Dated: November 8, 2011.
Randy A. Brown,
Deputy Field Supervisor, Arcata Fish and Wildlife Office, Arcata, CA.

[FR Doc. 2011-29420 Filed 11-14-11; 8:45 am]

BILLING CODE 4310-55-P